DEPARTMENT OF ENERGY

Federal Energy Regulatory Commission

[Docket No. CP01-415-000]

East Tennessee Natural Gas Company; Notice of Site Visit

March 4, 2002.

Between March 18-20, 2002 the staff will be conducting site visits of the project route for the proposed Patriot Expansion in Wythe and Smyth Counties in Virginia and in Sullivan, Knox, Hamilton, Franklin, and Morgan Counties in Tennessee. Representatives of East Tennessee Natural Gas Company will accompany Commission staff. Anyone interested in participating in the site visits may contact the Commission's Office of External Affairs at (201) 208-1088 for more details and must provide their own transportation.

Magalie R. Salas,
Secretary.

[FR Doc. 02-5695 Filed 3-8-02; 8:45 am]

BILLING CODE 6717-01-P